DEPARTMENT OF THE INTERIOR

Fish and Wildlife Service

50 CFR Part 20

[Docket No. FWS-HQ-MB-2015-0034; FF09M21200-167-FXMB1231099BPP0]

RIN 1018-BA70

Migratory Bird Hunting; Final Frameworks for Migratory Bird Hunting Regulations

AGENCY: Fish and Wildlife Service, Interior.

ACTION: Final rule; correction.

SUMMARY: We, the U.S. Fish and Wildlife Service, published a final rule in the Federal Register on March 28, 2016, that prescribes final frameworks from which States may select season dates, limits, and other options for the 2016-17 migratory bird hunting seasons. In that rule, we made an error in the daily bag limit for canvasbacks in Alaska. We intended to increase the daily bag limit for canvasbacks in Alaska, as we did for the rest of the United States, to 2 birds. We also included an incorrect description for the Special Early Canada Goose Unit in South Dakota. With this document, we correct our errors.

DATES: This correction is effective April 12, 2016.

FOR FURTHER INFORMATION CONTACT: Ron W. Kokel, (703) 358-1714.

SUPPLEMENTARY INFORMATION: In a final rule that published in the Federal Register on March 28, 2016, at 81 FR 17302, the following corrections are made:

Final Regulations Frameworks for 2016-17 Hunting Seasons on Certain Migratory Game Birds [Corrected]

1. On page 17317, in the second column, under the heading “Alaska” and the subheading “Daily Bag and Possession Limits,” the third sentence under “Ducks:” is amended by removing the words “1 canvasback”' and adding in their place the words “2 canvasbacks”.

2. On page 17330, in the first column, under the heading “South Dakota” and the subheading “Early Canada Goose Seasons,” remove the entire paragraph beginning with the words “Special Early Canada Goose Unit:” and add in its place the following paragraph: “Special Early Canada Goose Unit: The Counties of Campbell, Marshall, Roberts, Day, Clark, Codington, Grant, Hamlin, Deuel, Walworth; that portion of Perkins County west of State Highway 75 and south of State Highway 20; that portion of Dewey County north of Bureau of Indian Affairs Road 8, Bureau of Indian Affairs Road 9, and the section of U.S. Highway 212 east of the Bureau of Indian Affairs Road 8 junction; that portion of Potter County east of U.S. Highway 83; that portion of Sully County east of U.S. Highway 83; portions of Hyde, Buffalo, Brule, and Charles Mix counties north and east of a line beginning at the Hughes-Hyde County line on State Highway 34, east to Lees Boulevard, southeast to State Highway 34, east 7 miles to 350th Avenue, south to Interstate 90 on 350th Avenue, south and east on State Highway 50 to Geddes, east on 285th Street to U.S. Highway 281, and north on U.S. Highway 281 to the Charles Mix-Douglas County boundary; that portion of Bon Homme County north of State Highway 50; those portions of Yankton and Clay Counties north of a line beginning at the junction of State Highway 50 and 306th Street/County Highway 585 in Bon Homme County, east to U.S. Highway 81, then north on U.S. Highway 81 to 303rd Street, then east on 303rd Street to 444th Avenue, then south on 444th Avenue to 305th Street, then east on 305th Street/Bluff Road to State Highway 19, then south to State Highway 50 and east to the Clay/Union County Line; McPherson, Edmunds, Kingsbury, Brookings, Lake, Moody, Miner, Faulk, Hand, Jerauld, Douglas, Hutchinson, Turner, Aurora, Beadle, Davison, Hanson, Sanborn, Spink, Brown, Harding, Butte, Lawrence, Meade, Oglala Lakota (formerly Shannon), Jackson, Mellette, Todd, Jones, Haakon, Corson, Ziebach, and McCook Counties; and those portions of Minnehaha and Lincoln counties outside of an area bounded by a line beginning at the junction of the South Dakota-Minnesota State line and Minnehaha County Highway 122 (254th Street) west to its junction with Minnehaha County Highway 149 (464th Avenue), south on Minnehaha County Highway 149 (464th Avenue) to Hartford, then south on Minnehaha County Highway 151 (463rd Avenue) to State Highway 42, east on State Highway 42 to State Highway 17, south on State Highway 17 to its junction with Lincoln County Highway 116 (Klondike Road), and east on Lincoln County Highway 116 (Klondike Road) to the South Dakota-Iowa State line, then north along the South Dakota-Iowa and South Dakota-Minnesota border to the junction of the South Dakota-Minnesota State line and Minnehaha County Highway 122 (254th Street).”

Dated: April 6, 2016.
Tina A. Campbell,
Chief, Division of Policy, Performance, and Management Programs, U.S. Fish and Wildlife Service.

[FR Doc. 2016-08326 Filed 4-11-16; 8:45 am]

BILLING CODE 4310-55-P